OFFICE OF PERSONNEL MANAGEMENT

5 CFR Part 532

RIN 3206-AN38

Prevailing Rate Systems; Redefinition of Certain Appropriated Fund Federal Wage System Wage Areas

AGENCY: U.S. Office of Personnel Management.

ACTION: Proposed rule with request for comments.

SUMMARY: The U.S. Office of Personnel Management (OPM) is issuing a proposed rule that would redefine the geographic boundaries of several appropriated fund Federal Wage System (FWS) wage areas for pay-setting purposes. Based on recent reviews of Metropolitan Statistical Area (MSA) boundaries in a number of wage areas, OPM proposes redefinitions affecting the following wage areas: Salinas-Monterey, CA; San Francisco, CA; New London, CT; Central and Western Massachusetts; Cincinnati, OH: Dayton, OH, Southeastern Washington-Eastern Oregon; and Spokane, WA.

DATES: We must receive comments on or before July 25, 2016.

ADDRESSES: You may submit comments, identified by “RIN 3206-AN38,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule to redefine the geographic boundaries of several appropriated fund FWS wage areas. These changes are based on recommendations of the Federal Prevailing Rate Advisory Committee (FPRAC), the statutory national labor-management committee responsible for advising OPM on matters affecting the pay of FWS employees. From time to time, FPRAC reviews the boundaries of wage areas and provides OPM with recommendations for changes if the Committee finds that changes are warranted.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting MSAs for the purpose of defining a wage area, except in very unusual circumstances.

The U.S. Office of Management and Budget defines MSAs and maintains and updates the definitions of MSA boundaries following each decennial census. MSAs are composed of counties and are defined on the basis of a central urbanized area—a contiguous area of relatively high population density. Additional surrounding counties are included in MSAs if they have strong social and economic ties to central counties.

When the boundaries of wage areas were first established in the 1960s, there were fewer MSAs than there are today and the boundaries of the then existing MSAs were much smaller. Most MSAs were contained within the boundaries of a wage area. MSAs have expanded each decade and in some cases now extend beyond the boundaries of the wage area.

FPRAC recently reviewed several wage areas where boundaries subdivide certain MSAs and has recommended by consensus that OPM implement the changes described in this proposed rule. These changes would be effective on the first day of the first applicable pay period beginning on or after 30 days following publication of the final regulations.

San Jose-Sunnyvale-Santa Clara, CA MSA

San Benito and Santa Clara Counties, CA, comprise the San Jose-Sunnyvale-Santa Clara, CA MSA. The San Jose-Sunnyvale-Santa Clara MSA is split between the Salinas-Monterey, CA, wage area and the San Francisco, CA, wage area. San Benito County is part of the Salinas-Monterey area of application while Santa Clara County is part of the San Francisco survey area.

OPM proposes to redefine San Benito County to the San Francisco area of application so that the entire San Jose-Sunnyvale-Santa Clara, CA MSA is in one wage area. There are currently 15 FWS employees stationed in San Benito County.

Worcester, MA-CT MSA

Windham County, CT, and Worcester County, MA, comprise the Worcester, MA-CT MSA. The Worcester MSA is split between the New London, CT, wage area and the Central and Western Massachusetts, MA, wage area. Windham County is part of the New London area of application and Worcester County is part of the Central and Western Massachusetts area of application, except that the towns of Warren and West Warren in Worcester County are part of the Central and Western Massachusetts survey area and the towns of Blackstone and Millville in Worcester County are part of the Narragansett Bay, RI, survey area.

OPM proposes to redefine Windham County to the Central and Western Massachusetts area of application so that the entire Worcester, MA-CT MSA is in one wage area. There are currently no FWS employees stationed in Windham County.

Cincinnati, OH-KY-IN MSA

Dearborn, Ohio, and Union Counties, IN; Boone, Bracken, Campbell, Gallatin, Grant, Kenton, and Pendleton Counties, KY; and Brown, Butler, Clermont, Hamilton, and Warren Counties, OH, comprise the Cincinnati, OH-KY-IN MSA. The Cincinnati MSA is split between the Cincinnati, OH, wage area and the Dayton, OH, wage area. Dearborn County, IN; Boone, Campbell, and Kenton Counties, KY; and Clermont, Hamilton, and Warren Counties, OH, are part of the Cincinnati survey area. Ohio County, IN; Bracken, Gallatin, Grant, and Pendleton Counties, KY; and Brown and Butler Counties, OH, are part of the Cincinnati area of application. Union County is part of the Dayton area of application.

OPM proposes to redefine Union County to the Cincinnati area of application so that the entire Cincinnati, OH-KY-IN MSA is in one wage area. There are currently no FWS employees stationed in Union County.

Walla Walla, WA MSA

Columbia and Walla Walla Counties, WA, comprise the Walla Walla, WA MSA. The Walla Walla MSA is split between the Southeastern Washington-Eastern Oregon wage area and the Spokane, WA, wage area. Walla Walla County is part of the Southeastern Washington-Eastern Oregon survey area and Columbia County is part of the Spokane area of application.

OPM proposes to redefine Columbia County to the Southeastern Washington-Eastern Oregon area of application so that the entire Walla Walla, WA MSA is in one wage area. There are currently three FWS employees stationed in Columbia County.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Salinas-Monterey, CA; San Francisco, CA; New London, CT; Central and Western Massachusetts; Cincinnati, OH: Dayton, OH, Southeastern Washington-Eastern Oregon; and Spokane, WA, wage areas to read as follows:

| * * * * *
CALIFORNIA
| * * * * *
Salinas-Monterey
Survey Area
California:
Monterey
Area of Application. Survey area.
| * * * * *
San Francisco
California:
Alameda
Contra Costa
Marin
Napa
San Francisco
San Mateo
Santa Clara
Solano
Area of Application. Survey area plus:
California:
Mendocino
San Benito
Santa Cruz
Sonoma
| * * * * *
CONNECTICUT
| * * * * *
New London
Survey Area
Connecticut:
New London
Area of Application. Survey area.
| * * * * *
MASSACHUSETTS
| * * * * *
Central and Western Massachusetts
Survey Area
Massachusetts
The following cities and towns in:
Hampden County
Agawam
Chicopee
East Longmeadow
Feeding Hills
Hampden
Holyoke
Longmeadow
Ludlow
Monson
Palmer
Southwick
Springfield
Three Rivers
Westfield
West Springfield
Wilbraham
Hampshire County
Easthampton
Granby
Hadley
Northampton
South Hadley
Worcester County
Warren
West Warren
Area of Application. Survey area plus:
Connecticut:
Windham
Massachusetts:
Berkshire
Franklin
Worcester (except Blackstone and Millville)
The following cities and towns in:
Hampden County
Blandford
Brimfield
Chester
Granville
Holland
Montgomery
Russell
Tolland
Wales
Hampshire County
Amherst
Belchertown
Chesterfield
Cummington
Goshen
Hatfield
Huntington
Middlefield
Pelham
Plainfield
Southampton
Ware
Westhampton
Williamsburg
Worthington
Middlesex County
Ashby
Shirley
Townsend
New Hampshire:
Belknap
Carroll
Cheshire
Grafton
Hillsborough
Merrimack
Sullivan
Vermont:
Addison
Bennington
Caledonia
Essex
Lamoille
Orange
Orleans
Rutland
Washington
Windham
Windsor
| * * * * *
OHIO
Cincinnati
Survey Area
Indiana:
Dearborn
Kentucky:
Boone
Campbell
Kenton
Ohio:
Clermont
Hamilton
Warren
Area of Application. Survey area plus:
Indiana:
Franklin
Ohio
Ripley
Switzerland
Union
Kentucky:
Bracken
Carroll
Gallatin
Grant
Mason
Pendleton
Ohio:
Adams
Brown
Butler
Highland
| * * * * *
Dayton
Ohio:
Champaign
Clark
Greene
Miami
Montgomery
Preble
Area of Application. Survey area plus:
Indiana:
Randolph
Wayne
Ohio:
Auglaize
Clinton
Darke
Logan
Shelby
| * * * * *
WASHINGTON
| * * * * *
Southeastern Washington-Eastern Oregon
Survey Area
Oregon:
Umatilla
Washington:
Benton
Franklin
Walla Walla
Yakima
Area of Application. Survey area plus:
Oregon:
Baker
Grant
Harney
Malheur
Morrow
Union
Wallowa
Wheeler
Washington:
Columbia
Kittitas (Only includes the Yakima Firing Range portion)
Spokane
Survey Area
Washington:
Spokane
Area of Application. Survey area plus:
Idaho:
Benewah
Bonner
Boundary
Clearwater
Idaho
Kootenai
Latah
Lewis
Nez Perce
Shoshone
Washington:
Adams
Asotin
Chelan (Does not include the North Cascades National Park portion)
Douglas
Ferry
Garfield
Grant
Kittitas (Does not include the Yakima Firing Range portion)
Lincoln
Okanogan
Pend Oreille
Stevens
Whitman
| * * * * *

[FR Doc. 2016-14912 Filed 6-23-16; 8:45 am]

BILLING CODE 6325-39-P